DEPARTMENT OF THE INTERIOR

Bureau of Indian Affairs

[192D0102DR/DS5A300000/DR.5A311.IA000118]

Draft Environmental Impact Statement for the Proposed Redding Rancheria Fee-to-Trust and Casino Project, Shasta County, California

AGENCY: Bureau of Indian Affairs, Interior.

ACTION: Notice of availability.

SUMMARY: This notice advises the public that the Bureau of Indian Affairs (BIA), as lead agency, intends to file a Draft Environmental Impact Statement (DEIS) with the U.S. Environmental Protection Agency (EPA) in connection with the Redding Rancheria's (Tribe) application requesting that the United States acquire approximately 232 acres of land in trust in Shasta County, California, for the construction and operation of a casino resort.

DATES: Written comments on the DEIS must arrive within 45 days after EPA publishes its Notice of Availability in the Federal Register. The date and location of the public hearing on the DEIS will be announced at least 15 days in advance through a notice to be published in local newspapers (Redding Record Searchlight and Sacramento Bee) and online at http://www.reddingeis.com.

ADDRESSES: You may mail or hand-deliver written comments to Amy Dutschke, Regional Director, Bureau of Indian Affairs, Pacific Region, 2800 Cottage Way, Sacramento, California 95825. Please include your name, return address, and “DEIS Comments, Redding Rancheria Project” on the first page of your written comments. You may also submit comments through email to Chad Broussard, Environmental Protection Specialist, Bureau of Indian Affairs, at chad.broussard@bia.gov. If emailing comments, please use “DEIS Comments, Redding Rancheria Project” as the subject of your email.

FOR FURTHER INFORMATION CONTACT: Chad Broussard, Environmental Protection Specialist, Bureau of Indian Affairs, Pacific Regional Office, 2800 Cottage Way, Room W-2820, Sacramento, California 95825; telephone: (916) 978-6165; email: chad.broussard@bia.gov. Information is also available online at http://www.reddingeis.com.

SUPPLEMENTARY INFORMATION: The Tribe submitted an application to the Department of the Interior (Department) requesting the placement of approximately 232 acres of fee land in trust by the United States upon which the Tribe would construct a casino resort. The facility would include an approximately 69,500 square foot casino, an approximately 250-room hotel, an event/convention center, an outdoor amphitheatre, a retail center, and associated parking and infrastructure. The new facility would replace the Tribe's existing casino, and the existing casino buildings would be converted to a different Tribal use.

Accordingly, the proposed action for the Department is the acquisition requested by the Tribe. The proposed fee-to-trust property is located in an unincorporated part of Shasta County, California, approximately 1.6 miles northeast of the existing Redding Rancheria, and about two miles southeast of downtown Redding. The proposed trust property includes seven parcels, bound by Bechelli Lane on the north, private properties to the south, the Sacramento River on the west, and Interstate 5 on the east. The Shasta County Assessor's parcel numbers (APNs) for the property are 055-010-011, 055-010-012, 055-010-014, 055-010-015, 055-050-001, 055-020-004 and 055-020-005.

The following alternatives are considered in the DEIS: (1) Proposed Project; (2) Proposed Project with No Retail Alternative; (3) Reduce Intensity Alternative; (4) Non-Gaming Alternative; (5) Anderson Site Alternative; (6) Expansion of Existing Casino Alternative; and (7) No Action Alternative. Environmental issues addressed in the EIS include land resources; water resources; air quality; noise; biological resources; cultural/historical/archaeological resources; resource use patterns; traffic and transportation; public health and safety; hazardous materials and hazardous wastes; public services and utilities; socioeconomics; environmental justice; visual resources/aesthetics; and cumulative, indirect, and growth-inducing effects.

Locations Where the DEIS is Available for Review: The DEIS is available for review during regular business hours at the BIA Pacific Regional Office at the address noted above in the ADDRESSES section of this notice, and the Redding Public Library, 1100 Parkview Avenue, Redding, California. The DEIS is also available online at http://www.reddingeis.com. To obtain a compact disc copy of the DEIS, please provide your name and address in writing or by phone to Chad Broussard, Bureau of Indian Affairs, Pacific Regional Office. Contact information is listed in the FOR FURTHER INFORMATION CONTACT section of this notice. Individual paper copies of the DEIS will be provided upon payment of applicable printing expenses by the requestor for the number of copies requested.

Public Comment Availability: Comments, including names and addresses of respondents, will be available for public review at the BIA address shown in the ADDRESSES section, during regular business hours, 8 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Authority: This notice is published in accordance with sections 1503.1 and 1506.6 of the Council on Environmental Quality Regulations (40 CFR parts 1500 through 1508) implementing the procedural requirements of the National Environmental Policy Act of 1969, as amended (42 U.S.C. 4321-4345 et seq.), and the Department of the Interior National Environmental Policy Act Regulations (43 CFR part 46), and is in the exercise of authority delegated to the Assistant Secretary—Indian Affairs by 209 DM 8.

Dated: April 5, 2019.
Tara Sweeney,
Assistant Secretary—Indian Affairs.

[FR Doc. 2019-07080 Filed 4-9-19; 8:45 am]

BILLING CODE 4337-15-P